DEPARTMENT OF ENERGY

Federal Energy Regulatory Commission

[Docket No. PF06-35-000]

Columbia Gas Transmission Corporation; Notice of Intent To Prepare an Environmental Assessment for the Proposed Eastern Market Expansion Project and Request for Comments on Environmental Issues

November 7, 2006.

The staff of the Federal Energy Regulatory Commission (FERC or Commission) will prepare an environmental assessment (EA) that will discuss the environmental impacts of Columbia Gas Transmission Corporation's (Columbia) planned Eastern Market Expansion Project located in certain counties in West Virginia, Virginia, and Ohio.

This notice announces the opening of the scoping process we will use to gather input from the public and interested agencies on the project. Your input will help the Commission staff determine which issues need to be evaluated in the EA. Please note that the scoping period will close on December 11, 2006.

This notice is being sent to affected landowners; federal, state, and local government representatives and agencies; environmental and public interest groups; Native American tribes; other interested parties in this proceeding; and local libraries and newspapers. We encourage government representatives to notify their constituents of this planned project and encourage them to comment on their areas of concern.

If you are a landowner receiving this notice, you may be contacted by a Columbia representative about the acquisition of an easement to construct, operate, and maintain the proposed facilities. Columbia would seek to negotiate a mutually acceptable agreement. However, if the project is approved by the Commission, that approval conveys with it the right of eminent domain. Therefore, if easement negotiations fail to produce an agreement, Columbia could initiate condemnation proceedings in accordance with state law.

A fact sheet prepared by the FERC entitled “An Interstate Natural Gas Facility on My Land? What Do I Need to Know?” is available for viewing on the FERC Internet website (http://www.ferc.gov). This fact sheet addresses a number of typically asked questions, including the use of eminent domain and how to participate in the FERC's proceedings.

Summary of the Proposed Project

The planned Eastern Market Expansion Project consists of:

(a) Expanding the existing Crawford Storage Field in Fairfield and Hocking Counties, Ohio;

(b) Expanding the existing Coco Storage Field in Kanawha County, West Virginia;

(c) Installing an additional 12,600 horsepower at four existing compressor stations in West Virginia; and

(d) Constructing three sections of 26- to 36-inch-diameter pipeline loop totaling about 15.5 miles in Clay and Randolph Counties, West Virginia and Warren, Clarke, and Fauquier Counties, Virginia.

A general overview map of the major project facilities is provided in Appendix 1.¹

¹ The appendices referenced in this notice are not being printed in the Federal Register. Copies are available on the Commission's Web site (excluding maps) at the “eLibrary” link or from the Commission's Public Reference Room or call (202) 502-8371. For instructions on connecting to eLibrary refer to the end of this notice. Copies of the appendices were sent to all those receiving this notice in the mail.

Columbia indicates that these facilities would provide an additional 97,050 dekatherms per day of storage deliverability and associated firm pipeline transportation capacity to four local gas distribution companies in the Mid-Atlantic region.

Columbia anticipates filing an application with the FERC in March 2007. If approved, Columbia would seek approval to begin construction by April 1, 2008, with a proposed in-service date of April 1, 2009.

Land Requirements

Construction of the project facilities would disturb about 327 acres of land. Following construction, about 272 acres of the total would be retained for the operation of the pipeline and the aboveground facilities. Columbia currently plans to use a nominal right-of-way (ROW) width of 75 feet to construct its pipelines, with occasional increases in width for additional workspace at waterbody, wetland, road, and railroad crossings. For operation of the pipeline facilities, Columbia plans to use a 70-foot-wide permanent ROW. Temporary extra workspaces may also be required in areas with site-specific constraints, such as side-slope construction and areas needed for pipe storage and equipment yards. The well connect lines at the Coco and Crawford Storage Fields would require a ROW width of 50 feet for construction, with the same width maintained as permanent ROW for operation. For new well installation at the Coco and Crawford Storage Fields, a 400-foot-by-400-foot work area would be utilized while for reconditioned wells a 300-foot-by-300-foot work area would be used. After installation, a 300-foot-radius buffer would be associated with each well.

Currently Identified Environmental Issues

We have already identified several issues that we think deserve attention based on a preliminary review of the proposed facilities and information provided by Columbia. This list of issues may be changed based on your comments and our analysis:

• Impacts on residential areas;

• The effect of blasting on groundwater;

• Potential noise impacts associated with construction and operation;

• Difficult ROW restoration in areas of side-slope construction; and

• Impact on visual resources due to vegetation clearing to create a new ROW.

The EA Process

The FERC will be the lead federal agency for the preparation of the EA. The document will satisfy the requirements of the National Environmental Policy Act (NEPA). The Eastern Market Expansion Project is in the preliminary design state.

For this project, the FERC staff has initiated its NEPA review prior to receiving the application. The purpose of the Commission's Pre-Filing Process is to involve interested stakeholders early in project planning and to identify and resolve issues before an application is filed with the FERC. A docket number (PF06-35-000) has been established to place information filed by Columbia, and related documents issued by the Commission, into the public record. Once a formal application is filed with the FERC, a new docket number will be established.

NEPA requires the Commission to take into account the environmental impacts that could result from an action whenever it considers the issuance of a Certificate of Public Convenience and Necessity. NEPA also requires us to discover and address concerns the public may have about proposals. This process is referred to as “scoping.” The main goal of the scoping process is to focus the analysis in the EA on the important environmental issues. By this Notice of Intent, we are requesting public comments on the scope of the issues that should be addressed in the EA. We will consider all comments received during scoping in the preparation of the EA.

Staff's independent analysis and evaluation of the issues will be included in the EA. The EA will also include possible alternatives to the proposed project or portions of the project, and will make recommendations on how to lessen or avoid impacts on the various resource areas of concern. Depending on the comments received during the scoping process, the EA may be published and mailed to federal, state, and local agencies; elected officials; environmental and public interest groups; other interested parties; affected landowners; Native American tribes; libraries, and newspapers; and the Commission's official service list for this proceeding. A 30-day comment period will be allotted for review of the EA, if it is published.

FERC staff will be involved in discussions with other jurisdictional agencies to identify their issues and concerns. These agencies include the National Park Service; U.S. Fish and Wildlife Service (West Virginia, Virginia, and Ohio Field Offices); U.S. Army Corps of Engineers (Huntington, Pittsburgh, and Norfolk Districts); West Virginia Department of Environmental Protection; West Virginia Department of Natural Resources; West Virginia State Historic Preservation Office (SHPO); Virginia Marine Resource Commission; Virginia Department of Conservation and Recreation; Virginia Department of Environmental Quality; Virginia Game and Inland Fisheries; Virginia SHPO; Ohio Environmental Protection Agency; Ohio Department of Natural Resources; and Ohio SHPO. By this notice, we are asking these and other federal, state, and local agencies with jurisdiction and/or special expertise with respect to environmental issues to formally enter cooperating agency status with us in the preparation of the EA. Agencies that would like to request cooperating status should follow the instructions for filing comments provided below.

Public Participation

You can make a difference by providing us with your specific comments or concerns about the proposal. Your comments should focus on the potential environmental effects, reasonable alternatives, and measures to avoid or lessen environmental impact. The more specific your comments, the more useful they will be. Please carefully follow these instructions to ensure that your comments are received in time and properly recorded:

• Send an original and two copies of your letter to: Magalie R. Salas, Secretary, Federal Energy Regulatory Commission, 888 First St., NE., Room 1A, Washington, DC 20426;

• Label one copy of the comments for the attention of Gas Branch 1, DG2E;

• Reference Docket No. PF06-35-000 on the original and both copies; and

• Mail your comments so that they will be received in Washington, DC on or before December 11, 2006.

Please note that the Commission encourages electronic filing of comments. See 18 Code of Federal Regulations 385.2001(a)(1)(iii) and the instructions on the Commission's Internet website at http://www.ferc.gov under the “eFiling” link and the link to the User's Guide. Before you can file comments you will need to create an account by clicking on “Login to File” and then “New User Account.” You will be asked to select the type of filing you are making. This filing is considered a “Comment on Filing”.

When Columbia submits its application for authorization to construct and operate the Eastern Market Expansion Project, the Commission will publish a Notice of Application in the Federal Register and will establish a deadline for interested persons to intervene in the proceeding. Because the Commission's Pre-Filing Process occurs before an application to begin a proceeding is officially filed, petitions to intervene during this process are premature and will not be accepted by the Commission.

Environmental Mailing List

The determination of whether to distribute the EA for public comment will be based on the response to this notice. If the EA is published and you are interested in receiving it, please return the Information Request (Appendix 2).

Availability of Additional Information

Additional information about the project is available from the Commission's Office of External Affairs at 1-866-208 FERC (3372) or on the FERC Internet Web site (http://www.ferc.gov). Using the “eLibrary” link, select “General Search” from the eLibrary menu, enter the selected date range and a docket number field (i.e., PF06-35-000), and follow the instructions. Searches may also be done using the phrase “Eastern Market Expansion Project” in the Text Search field. For assistance with access to eLibrary, the helpline can be reached at 1-866-208-3676, TTY (202) 502-8659, or at FERCOnlineSupport@ferc.gov. The eLibrary link on the FERC Internet Web site also provides access to the texts of formal documents issued by the Commission, such as orders, notices, and rule makings.

In addition, the FERC now offers a free service called eSubscription that allows you to keep track of all formal issuances and submittals in specific dockets. This can reduce the amount of time you spend researching proceedings by automatically providing you with notification of these filings, document summaries, and direct links to the documents. To register for this service, go to the eSubscription link in the FERC Internet Web site.

Public meetings or site visits will be posted on the Commission's calendar located at http://www.ferc.gov/EventCalendar/EventsList.aspx along with other related information.

Magalie R. Salas,
Secretary.

[FR Doc. E6-19219 Filed 11-14-06; 8:45 am]

BILLING CODE 6717-01-P